DEPARTMENT OF TRANSPORTATION

Office of the Secretary

Aviation Proceedings, Agreements Filed the Week Ending April 28, 2006

The following Agreements were filed with the Department of Transportation under Sections 412 and 414 of the Federal Aviation Act, as amended (4 U.S.C. 1382 and 1384) and procedures governing proceedings to enforce these provisions. Answers may be filed within 21 days after the filing of the application.

Docket Number: OST-2006-24605.

Date Filed: April 24, 2006.

Parties: Members of the International Air Transport Association.

Subject:

Mail Vote 486—Resolution 010m, TC123 South Atlantic,

Special Passenger Amending Resolution from Singapore (SG) to South Atlantic (Memo 0330).

Intended effective date: April 1, 2006.

Docket Number: OST-2006-24606.

Date Filed: April 24, 2006.

Parties: Members of the International Air Transport Association.

Subject:

PTC2 Mail Vote 485,

Special Passenger Amending Resolution 0101 from Israel to Europe.

Intended effective date: April 27, 2006.

Docket Number: OST-2006-24607.

Date Filed: April 24, 2006.

Parties: Members of the International Air Transport Association.

Subject:

Mail Vote 483—Resolution 010j, TC31 South Pacific,

Special Passenger Amending Resolution between Chile and Australia, New Zealand.

Intended effective date: April 15, 2006.

Docket Number: OST-2006-24608.

Date Filed: April 24, 2006.

Parties: Members of the International Air Transport Association.

Subject:

Mail Vote 487—Resolution 010n,

TC3 Within South East Asia / South East Asia-South Asian, Subcontinent/South East Asia-Japan, Korea,

Special Passenger Amending Resolution from Philippines to South East Asia, South Asian Subcontinent, Japan, Korea.

Intended effective date: May 11, 2006.

Renee V. Wright,
Program Manager, Docket Operations, Federal Register, Liaison.

[FR Doc. E6-7569 Filed 5-17-06; 8:45 am]

BILLING CODE 4910-9X-P